DEPARTMENT OF EDUCATION

34 CFR Part 300

Assistance to States for the Education of Children With Disabilities; Delay of Effective Date

AGENCY: Department of Education.

ACTION: Final regulations; delay of effective date.

SUMMARY: In accordance with the memorandum of January 20, 2001, from the Assistant to the President and Chief of Staff, entitled “Regulatory Review Plan,” this regulation temporarily delays the effective date of the regulations entitled Assistance to States for Education of Children With Disabilities published in the Federal Register on January 8, 2001 (66 FR 1474).

EFFECTIVE DATE: The effective date of the regulations amending 34 CFR Part 300 published at 66 FR 1474, January 8, 2001 is delayed 60 days from February 9, 2001 until April 10, 2001.

FOR FURTHER INFORMATION CONTACT: Kenneth C. Depew, Acting Assistant General Counsel for Regulations, Office of the General Counsel, U.S. Department of Education, 400 Maryland Avenue, SW., room 6E227, FB-6, Washington, DC 20202-2241. Telephone: (202) 401-8300.

If you use a telecommunications device for the deaf (TDD), you may call the Federal Information Relay Service (FIRS) at 1-800-877-8339.

Dated: January 24, 2001.
Rod Paige,
Secretary of Education.

[FR Doc. 01-2781 Filed 2-1-01; 8:45 am]

BILLING CODE 4000-01-P